DEPARTMENT OF THE INTERIOR

National Park Service

Notice of Inventory Completion: Arizona State Museum, University of Arizona, Tucson, AZ

AGENCY: National Park Service, Interior.

ACTION: Notice.

Notice is here given in accordance with the Native American Graves Protection and Repatriation Act (NAGPRA), 25 U.S.C. 3003, of the completion of an inventory of human remains in the possession of the Arizona State Museum, University of Arizona, Tucson, AZ. The human remains were removed from an unknown location, possibly in southern Arizona.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Arizona State Museum professional staff in consultation with representatives of the Ak Chin Indian Community of the Maricopa (Ak Chin) Indian Reservation, Arizona; Gila River Indian Community of the Gila River Indian Reservation, Arizona; Salt River Pima-Maricopa Indian Community of the Salt River Reservation, Arizona; and Tohono O'odham Nation of Arizona.

On an unknown date, human remains representing a minimum of one individual were removed from an unknown location by Russell Hastings. No additional site information is available. The human remains were given by Mr. Hastings to Roger Carpenter sometime around 1940. In 2007, Mr. Carpenter donated the human remains to the Arizona State Museum (AT-2007-39). No known individual was identified. No associated funerary objects are present.

Mr. Hastings was a contractor who lived in Tucson, AZ, and it is possible that the human remains were found in southern Arizona. The human remains are mummified. In Arizona, mummified remains have been reported exclusively from dry cave sites and are associated with pre-historic Native American cultures. Based on the condition of the human remains, it is more likely than not that they are of Native American ancestry. However, there is insufficient contextual information to culturally affiliate the human remains with any specific, present-day Indian tribe.

Officials of the Arizona State Museum have determined that, pursuant to 25 U.S.C. 3001 (9-10), the human remains described above represent the physical remains of one individual of Native American ancestry. Officials of the Arizona State Museum also have determined that, pursuant to 25 U.S.C. 3001 (2), a relationship of shared group identity cannot be reasonably traced between the Native American human remains and any present-day Indian tribe.

The Native American Graves Protection and Repatriation Review Committee (Review Committee) is responsible for recommending specific actions for disposition of culturally unidentifiable human remains. In 2008, the Arizona State Museum requested that the Review Committee recommend disposition of the culturally unidentifiable human remains to the Tohono O'odham Nation of Arizona, as aboriginal and historic occupants of lands in southern Arizona. The Review Committee considered the request at its October 11-12, 2008 meeting and recommended disposition of the human remains to the Tohono O'odham Nation. An April 3, 2009, letter from the Designated Federal Official on behalf of the Secretary of the Interior transmitted the authorization for the museum to effect disposition of the human remains of the one culturally unidentifiable individual to the Tohono O'odham Nation of Arizona contingent on the publication of a Notice of Inventory Completion in the Federal Register. This notice fulfills that requirement.

Representatives of any other Indian tribe that believes itself to be culturally affiliated with the human remains should contact John McClelland, NAGPRA Coordinator, Arizona State Museum, University of Arizona, Tucson, AZ 85721, telephone (520) 626-2950, before June 8, 2009. Disposition of the human remains to the Tohono O'odham Nation of Arizona may proceed after that date if no additional claimants come forward.

The Arizona State Museum is responsible for notifying the Ak Chin Indian Community of the Maricopa (Ak Chin) Indian Reservation, Arizona; Gila River Indian Community of the Gila River Indian Reservation, Arizona; Salt River Pima-Maricopa Indian Community of the Salt River Reservation, Arizona; and Tohono O'odham Nation of Arizona that this notice has been published.

Dated: April 22, 2009.
Sherry Hutt,
Manager, National NAGPRA Program.

[FR Doc. E9-10545 Filed 5-6-09; 8:45 am]

BILLING CODE 4312-50-S